DEPARTMENT OF ENERGY

Energy Information Administration

Agency Information Collection Activities: Submission for OMB Review; Comment Request

AGENCY: Energy Information Administration (EIA), Department of Energy (DOE).

ACTION: Agency information collection activities; submission for OMB review; comment request.

SUMMARY: The EIA has submitted the EIA-882T, “Generic Clearance for Questionnaire Testing and Research” to the Office of Management and Budget (OMB) for review and a three-year extension under section 3507(h)(1) of the Paperwork Reduction Act of 1995 (Pub. L. 104-13) (44 U.S.C. 3501 et seq).

DATES: Comments must be filed by July 29, 2005. If you anticipate that you will be submitting comments but find it difficult to do so within that period, you should contact the OMB Desk Officer for DOE listed below as soon as possible.

ADDRESSES: Send comments to John Asalone, OMB Desk Officer for DOE, Office of Information and Regulatory Affairs, Office of Management and Budget. To ensure receipt of the comments by the due date, submission by FAX (202-395-7285) or e-mail (John_A._Asalone@omb.eop.gov) is recommended. The mailing address is 726 Jackson Place NW., Washington, DC 20503. The OMB DOE Desk Officer may be telephoned at (202) 395-4650. (A copy of your comments should also be provided to EIA's Statistics and Methods Group at the address below.)

FOR FURTHER INFORMATION CONTACT: Requests for additional information should be directed to Kara Norman. To ensure receipt of the comments by the due date, submission by FAX (202-287-1705) or e-mail (kara.norman@eia.doe.gov) is recommended. The mailing address is Statistics and Methods Group (EI-70), Forrestal Building, U.S. Department of Energy, Washington, DC. 20585-0670. Kara Norman may be contacted by telephone at (202) 287-1902.

SUPPLEMENTARY INFORMATION: This section contains the following information about the energy information collection submitted to OMB for review: (1) The collection numbers and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. EIA-882T, “Generic Clearance for Questionnaire Testing and Research.”

2. Energy Information Administration.

3. OMB Number 1905-0186.

4. Three-year approval requested.

5. Voluntary.

6. The EIA-882T is used to conduct pretest/pilot surveys (face-to-face interviews, telephone interviews, mail questionnaires, and electronic questionnaires), focus groups, and cognitive interviews. Data are used to modify questionnaires to improve the quality of data. Samples of potential respondents to proposed surveys are selected to participate.

7. Individuals or households; business or other for-profit; not-for profit institutions; farms; Federal Government; and state, local or tribal government.

8. 1000 hours.

Statutory Authority: Section 3507(h)(1) of the Paperwork Reduction Act of 1995 (Pub. L. 104-13) (44 U.S.C. 3501 et seq.).

Issued in Washington, DC, June 21, 2005.
Jay H. Casselberry,
Agency Clearance Officer, Energy Information Administration.

[FR Doc. 05-12818 Filed 6-28-05; 8:45 am]

BILLING CODE 6450-01-P